FEDERAL COMMUNICATIONS COMMISSION

[CC Docket No. 92-237; DA 00-1219]

Next Meeting of the North American Numbering Council

AGENCY: Federal Communications Commission.

ACTION: Notice.

SUMMARY: On June 2, 2000, the Commission released a public notice announcing the June 20 and 21, 2000, meeting and agenda of the North American Numbering Council (NANC). The intended effect of this action is to make the public aware of the NANC's next meeting and its agenda.

FOR FURTHER INFORMATION CONTACT: Jeannie Grimes at (202) 418-2320 or jgrimes@fcc.gov. The address is: Network Services Division, Common Carrier Bureau, Federal Communications Commission, The Portals, 445 12th Street, SW, Suite 6A320, Washington, DC 20554. The fax number is: (202) 418-2345. The TTY number is: (202) 418-0484.

SUPPLEMENTARY INFORMATION: Released: June 2, 2000.

The North American Numbering Council (NANC) has scheduled a meeting to be held Tuesday, June 20, 2000, from 8:30 a.m. until 5:00 p.m., and on Wednesday, June 21, from 8:30 a.m. until 12 noon. The meeting will be held at the Federal Communications Commission, Portals II, 445 12th Street, SW, Room TW-C305, Washington, DC.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Jeannie Grimes at the address under FOR FURTHER INFORMATION CONTACT, stated above.

Proposed Agenda—Tuesday, June 20, 2000

1. Approval of May 23-24, 2000 meeting minutes.

2. North American Numbering Plan Administration (NANPA) Report. Status of reporting form, and data entry mechanisms (Numbering Resource Optimization Report and Order (NRO R&O), CC Docket 99-200, paragraphs 52 and 53); NANP exhaust (without pooling) projections.

3. North American Numbering Plan Administration (NANPA) Oversight Working Group Report.

4. Numbering Resource Optimization (NRO) Working Group Report. NARUC review of Uniform Definitions (NRO R&O paragraphs 14 and 36); status of UNP impact (paragraph 231), and status of fees for reserved numbers (paragraph 25).

5. Industry Numbering Committee (INC) Report. Status of Thousand Block Pooling Administrator guidelines.

6. Ad Hoc Voluntary UNP Study Group Report. Status of Business Rule Model.

7. Local Number Portability Administration (LNPA) Working Group Report. Wireless Number Portability Subcommittee report, and updates on Wireless Wireline Integration; Problem Identification Management (PIM); NPAC/SMS release status, and Slow Horse.

8. Number Pooling Issue Management Group (IMG) Report. Update on development of thousands-block pooling administration technical requirements (NRO R&O paragraph 155).

9. Limited Liability Corporations (LLCs) and Number Portability Administration Centers (NPAC) activity update

10. North American Billing and Collection update. Wednesday, June 24, 2000

11. Steering Group Report.

12. Presentation by U S West on new NANP Expansion recommendation.

13. Cost Recovery Working Group Report. Confirm appointment of co-chair.

14. NANC Discussion Group on charging for telephone numbers. Status of pricing comments and replies (NRO R&O paragraph 251).

15. Discussion of proposed assignment to a NANC Issue Management Group to examine numbering resource demand from new services (e.g., unified messaging services).

16. Public participation (5 minutes each, if any).

17. Other Business.

18. Action Items and Decisions Reached.

Federal Communications Commission.
Diane Griffin Harmon,
Deputy Chief, Network Services Division, Common Carrier Bureau.

[FR Doc. 00-14282 Filed 6-5-00; 8:45 am]

BILLING CODE 6712-01-P